DEPARTMENT OF THE INTERIOR

Bureau of Land Management

[A2407-014-004-065516; #O2412-014-004-047181.1]

Notice of Filing of Plats of Survey, Colorado; Correction

AGENCY: Bureau of Land Management, Interior.

ACTION: Notice; correction.

SUMMARY: The Bureau of Land Management published a notice of Filing of Plats of Survey, Colorado, in the Federal Register of May 9, 2025. This notice corrects the section numbers that appeared in the land description for the survey in Township 49 North, Range 1 West, New Mexico Principal Meridian, Colorado.

FOR FURTHER INFORMATION CONTACT: David W. Ginther, Chief Cadastral Surveyor for Colorado, telephone: (970) 826-5064; email: dginther@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Correction

In the Federal Register of May 9, 2025, in FR Doc. 2025-08099, on page 19728, in the third column, correct the final paragraph to read: “The plat and field notes of the dependent resurvey and subdivision of sections 15, 17, and 30 in Township 49 North, Range 1 West, New Mexico Principal Meridian, Colorado, were accepted on March 24, 2025.”

(Authority: 43 U.S.C., ch. 3)

David W. Ginther,
Chief Cadastral Surveyor.

[FR Doc. 2025-16719 Filed 8-29-25; 8:45 am]

BILLING CODE 4331-16-P